COMMISSION ON CIVIL RIGHTS

State Advisory Committees

AGENCY: United States Commission on Civil Rights.

ACTION: Solicitation of applications.

SUMMARY: Because the terms of the members of the Kentucky Advisory Committee are expiring on July 11, 2015, the United States Commission on Civil Rights hereby invites any individual who is eligible to be appointed to apply. The memberships are exclusively for the Kentucky Advisory Committee, and applicants must be residents of Kentucky to be considered. Letters of interest must be received by the Southern Regional Office of the U.S. Commission on Civil Rights no later than May 11, 2015. Letters of interest must be sent to the address listed below.

Because the terms of the members of the Minnesota Advisory Committee are expiring on July 11, 2015, the United States Commission on Civil Rights hereby invites any individual who is eligible to be appointed to apply. The memberships are exclusively for the Minnesota Advisory Committee, and applicants must be residents of Minnesota to be considered. Letters of interest must be received by the Midwestern Regional Office of the U.S. Commission on Civil Rights no later than May 11, 2015. Letters of interest must be sent to the address listed below.

Because the terms of the members of the New Hampshire Advisory Committee are expiring on July 11, 2015, the United States Commission on Civil Rights hereby invites any individual who is eligible to be appointed to apply. The memberships are exclusively for the New Hampshire Advisory Committee, and applicants must be residents of New Hampshire to be considered. Letters of interest must be received by the Eastern Regional Office of the U.S. Commission on Civil Rights no later than May 11, 2015. Letters of interest must be sent to the address listed below.

Because the terms of the members of the New York Advisory Committee are expiring on July 11, 2015, the United States Commission on Civil Rights hereby invites any individual who is eligible to be appointed to apply. The memberships are exclusively for the New York Advisory Committee, and applicants must be residents of New York to be considered. Letters of interest must be received by the Eastern Regional Office of the U.S. Commission on Civil Rights no later than May 11, 2015. Letters of interest must be sent to the address listed below.

DATES: Letters of interest for membership on the Kentucky Advisory Committee should be received no later than May 11, 2015.

Letters of interest for membership on the Minnesota Advisory Committee should be received no later than May 11, 2015.

Letters of interest for membership on the New Hampshire Advisory Committee should be received no later than May 11, 2015.

Letters of interest for membership on the New York Advisory Committee should be received no later than May 11, 2015.

ADDRESSES: Send letters of interest for the Kentucky Advisory Committee to: U.S. Commission on Civil Rights, Southern Regional Office, 61 Forsyth Street, Suite 16T126, Atlanta, GA 30303. Letter can also be sent via email to jhinton@usccr.gov.

Send letters of interest for the Minnesota Advisory Committee to: U.S. Commission on Civil Rights, Midwestern Regional Office, 55 West Monrore St., Suite 410, Chicago, IL 60603. Letters can also be sent via email to callen@usccr.gov.

Send letters of interest for the New Hampshire Advisory Committee to: U.S. Commission on Civil Rights, Eastern Regional Office, 1331 Pennsylvania Ave. NW., Suite 1150, Washington, DC 20425. Letter can also be sent via email to eroaa@usccr.gov.

Send letters of interest for the New York Advisory Committee to: U.S. Commission on Civil Rights, Eastern Regional Office, 1331 Pennsylvania Ave. NW., Suite 1150, Washington, DC 20425. Letter can also be sent via email to eroaa@usccr.gov.

FOR FURTHER INFORMATION CONTACT: David Mussatt, Chief, Regional Programs Unit, 55 W. Monroe St., Suite 410, Chicago, IL 60603, (312) 353-8311. Questions can also be directed via email to dmussatt@usccr.gov.

SUPPLEMENTARY INFORMATION: The Kentucky, Minnesota, New Hampshire, and New York Advisory Committees are statutorily mandated federal advisory committees of the U.S. Commission on Civil Rights pursuant to 42 U.S.C. 1975a. Under the charter for the advisory committees, the purpose is to provide advice and recommendations to the U.S. Commission on Civil Rights (Commission) on a broad range of civil rights matters in its respective state that pertain to alleged deprivations of voting rights or discrimination or denials of equal protection of the laws because of race, color, religion, sex, age, disability, or national origin, or the administration of justice. Advisory committees also provide assistance to the Commission in its statutory obligation to serve as a national clearinghouse for civil rights information.

Each advisory committee consists of not more than 19 members, each of whom will serve a four-year term. Members serve as unpaid Special Government Employees who are reimbursed for travel and expenses. To be eligible to be on an advisory committee, applicants must be residents of the respective state or district, and have demonstrated expertise or interest in civil rights issues.

The Commission is an independent, bipartisan agency established by Congress in 1957 to focus on matters of race, color, religion, sex, age, disability, or national origin. Its mandate is to:

• Investigate complaints from citizens that their voting rights are being deprived,

• study and collect information about discrimination or denials of equal protection under the law,

• appraise federal civil rights laws and policies,

• serve as a national clearinghouse on discrimination laws,

• submit reports and findings and recommendations to the President and the Congress, and

• issue public service announcements to discourage discrimination.

The Commission invites any individual who is eligible to be appointed a member of the Kentucky, Minnesota, New Hampshire, or New York Advisory Committee covered by this notice to send a letter of interest and a resume to the respective address above.

Dated: April 3, 2015.
David Mussatt,
Chief, Regional Programs Unit.

[FR Doc. 2015-08085 Filed 4-7-15; 8:45 am]

BILLING CODE 6335-01-P